DEPARTMENT OF DEFENSE

Office of the Secretary

[Docket ID: DOD-2011-OS-0131]

Privacy Act of 1974; System of Records

AGENCY: Office of the Secretary of Defense, Department of Defense (DoD).

ACTION: Notice to Alter a System of Records.

SUMMARY: The Office of the Secretary of Defense proposes to alter a system of records in its inventory of record systems subject to the Privacy Act of 1974 (5 U.S.C. 552a), as amended.

DATES: This proposed action would be effective without further notice on December 27, 2011 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on November 17, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 18, 2011.
Aaron Siegel,
Alternate OSD Federal Register Liaison Officer, Department of Defense.

DWHS E01 DoD

System name:

DoD Federal Docket Management System (DoDFDMS) (January 5, 2006, 71 FR 586).

Changes:

* * * * *

System location:

Delete entry and replace with “Primary. U.S. Environmental Protection Agency, Research Triangle Park, NC 27711-0001.

Secondary locations:

Washington Headquarters Services, Executive Services Directorate, Information Management Division, 4800 Mark Center Drive, Suite 02G09, Alexandria, VA 20350-3200.

Washington Headquarters Services, Executive Services Directorate, Directive Division, 4800 Mark Center Drive, Suite 02F09-02, Alexandria, VA 20350-3200.

Defense Acquisition Regulation Systems, 241 18th Street, Suite 200A, Arlington, VA 22202-3409.

United States Army Corps of Engineers, 441 G Street, Northwest, 3G81, Washington, DC 20314-1000.

Records also may be located in a designated office of the DoD Component that is the proponent of the rule making or notice. The official mailing address for the Component can be obtained from the DoD FDMS system manager.”

* * * * *

Authority for maintenance of the system:

Delete entry and replace with “5 U.S.C. 553, Rule making; 10 U.S.C. 113, Secretary of Defense; 44 U.S.C. chapter 3501, The Paperwork Reduction Act; DoD Directive Type Memoranda 06-008, Federal Docket Management System; and Administrative Instruction 102, Office of the Secretary of Defense (OSD) Federal Register (FR) System.”

* * * * *

Storage:

Delete entry and replace with “Paper file folders and electronic storage media.”

* * * * *

Retention and disposal:

Delete entry and replace with “Comments on rule making are permanent; retired to a Federal Records Center when superseded; and transferred to the National Archives when 30 years old.

Comments on notices are disposed of after one (1) year.”

System Manager(s) and address:

Delete entry and replace with “Federal Docket Management System Office, Washington Headquarters Services, Executive Services Directorate, Information Management Division, 4800 Mark Center Drive, Suite 02G09, Alexandria, VA 20350-3200.”

Notification procedure:

Delete entry and replace with “Individuals seeking to determine whether this system of records contains information about themselves should address written inquiries to the Federal Docket Management System Office, Washington Headquarters Services, Executive Services Directorate, Information Management Division, 4800 Mark Center Drive, Suite 02G09, Alexandria, VA 20350-3200.

Requests should contain full name, address, and telephone number:

Note: FDMS permits an individual, as well as a member of the public, to search the public comments received by the name of the individual submitting the comment. Unless the individual submits the comment anonymously, a name search will result in the comment being displayed for view. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.”

Record access procedures:

Delete entry and replace with “Individuals seeking access to records about themselves contained in this system of records should address a written request to the Office of the Secretary of Defense/Joint Staff Freedom of Information Act Requester Service Center, 1150 Defense Pentagon, Washington, DC 20301-1150.

Requests should contain full name, address, and telephone number:

As appropriate, requests may be referred to the DoD Component responsible for the rule making or notice for processing.

Note: FDMS permits a member of the public to download any of the public comments received. If an individual has voluntarily furnished his or her name when submitting the comment, the individual, as well as the public, can view and download the comment by searching on the name of the individual. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.”

Contesting record procedures:

Delete entry and replace with “The OSD rules for accessing records, for contesting contents and appealing initial agency determinations are published in OSD Administrative Instruction 81; 32 CFR part 311; or may be obtained from the system manager.”

* * * * *

DWHS E01 DoD

System name:

DoD Federal Docket Management System (DoDFDMS).

System location:

Primary. U.S. Environmental Protection Agency, Research Triangle Park, NC 27711-0001.

Secondary locations:

Washington Headquarters Services, Executive Services Directorate, Information Management Division, 4800 Mark Center Drive, Suite 02G09, Alexandria, VA 20350-3200.

Washington Headquarters Services, Executive Services Directorate, Directive Division, 4800 Mark Center Drive, Suite 02F09-02, Alexandria, VA 20350-3200.

Defense Acquisition Regulation Systems, 241 18th Street, Suite 200A, Arlington, VA 22202-3409.

United States Army Corps of Engineers, 441 G Street, Northwest, 3G81, Washington, DC 20314-1000.

Records also may be located in a designated office of the DoD Component that is the proponent of the rule making or notice. The official mailing address for the Component can be obtained from the DoD FDMS system manager.

Categories of individuals covered by the system:

Individuals who voluntarily provide personal contact information when submitting a public comment and/or supporting materials in response to a Department of Defense rule making document or notice.

Categories of records in the system:

Full name, postal address, email address, phone and fax number, name of the organization the individual represents, name of any individual serving as a representative for the individual submitting the comment, and the comments, as well as other supporting documentation, furnished by the individual.

Authority for maintenance of the system:

5 U.S.C. 553, Rule making; 10 U.S.C. 113, Secretary of Defense; 44 U.S.C. chapter 3501, The Paperwork Reduction Act; DoD Directive Type Memoranda 06-008, Federal Docket Management System; and Administrative Instruction 102, Office of the Secretary of Defense (OSD) Federal Register (FR) System.

Purpose(s):

The purpose of this system of records is to permit the Department of Defense to identify individuals who have submitted comments in response to DoD rule making documents or notices so that communications or other actions, as appropriate and necessary, can be effected, such as a need to seek clarification of the comment, a direct response is warranted, and for such other needs as may be associated with the rule making or notice process.

Note: Identification is possible only if the individual voluntarily provides identifying information. If such information is not furnished, the submitted comments and/or supporting documentation cannot be linked to an individual.

Routine uses of records maintained in the system, including categories of users and the purposes of such uses:

In addition to those disclosures generally permitted under 5 U.S.C. 552a(b) of the Privacy Act of 1974, these records may specifically be disclosed outside the DoD as a routine use pursuant to 552a(b)(3) as follows:

The DoD `Blanket Routine Uses' set forth at the beginning of the OSD's compilation of systems of records notices apply to this system.

Policies and practices for storing, retrieving, accessing, retaining, and disposing of records in the system:

Storage:

Paper file folders and electronic storage media.

Retrievability:

Records are retrieved by the individual's name.

Safeguards:

Records are maintained in a secure, password protected electronic system that utilizes security hardware and software to include: multiple firewalls, active intruder detection, and role-based access controls. Paper records will be maintained in a controlled facility where physical entry is restricted by the use of locks, guards, or administrative procedures. Access to records is limited to those officials who require the records to perform their official duties consistent with the purpose for which the information was collected. All personnel whose official duties require access to the information are trained in the proper safeguarding and use of the information.

Retention and disposal:

Comments on rule making are permanent; retired to a Federal Records Center when superseded; and transferred to the National Archives when 30 years old.

Comments on notices are disposed of after one (1) year.

System Manager(s) and address:

Federal Docket Management System Office, Washington Headquarters Services, Executive Services Directorate, Information Management Division, 4800 Mark Center Drive, Suite 02G09, Alexandria, VA 20350-3200.

Notification procedure:

Individuals seeking to determine whether this system of records contains information about themselves should address written inquiries to the Federal Docket Management System Office, Washington Headquarters Services, Executive Services Directorate, Information Management Division, 4800 Mark Center Drive, Suite 02G09, Alexandria, VA 20350-3200.

Requests should contain full name, address, and telephone number.

Note: FDMS permits an individual, as well as a member of the public, to search the public comments received by the name of the individual submitting the comment. Unless the individual submits the comment anonymously, a name search will result in the comment being displayed for view. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.

Record access procedures:

Individuals seeking access to records about themselves contained in this system of records should address a written request to the Office of the Secretary of Defense/Joint Staff Freedom of Information Act Requester Service Center, 1150 Defense Pentagon, Washington, DC 20301-1150.

Requests should contain full name, address, and telephone number.

As appropriate, requests may be referred to the DoD Component responsible for the rule making or notice for processing.

Note: FDMS permits a member of the public to download any of the public comments received. If an individual has voluntarily furnished his or her name when submitting the comment, the individual, as well as the public, can view and download the comment by searching on the name of the individual. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.

Contesting record procedures:

The OSD rules for accessing records, for contesting contents and appealing initial agency determinations are published in OSD Administrative Instruction 81; 32 CFR part 311; or may be obtained from the system manager.

Record source categories:

Individual.

Exemptions claimed for the system:

None.

[FR Doc. 2011-30259 Filed 11-23-11; 8:45 am]

BILLING CODE 5001-06-P